ENVIRONMENTAL PROTECTION AGENCY

[FRL-9988-50-ORD]

Environmental Laboratory Advisory Board Meeting Dates and Agenda

AGENCY: Environmental Protection Agency (EPA).

ACTION: Notice of Teleconference and Face-to-Face Meetings.

The Environmental Protection Agency's (EPA) Environmental Laboratory Advisory Board (ELAB) holds teleconference meetings the third Wednesday of each month at 1:00 p.m. ET and two face-to-face meetings each calendar year. For 2019, teleconference only meetings will be on February 20, March 20, April 17, May 15, June 19, July 17, September 18, October 16, November 20, and December 18. In addition to these teleconferences, ELAB will be holding their two face-to-face meetings with teleconference line also available on January 28, 2019 at the Hyatt Regency in Milwaukee, WI at 1:30 p.m. CT and on August 5, 2019 at the Hyatt Regency in Jacksonville, FL at 1:30 p.m. ET. Items to be discussed by ELAB over these coming meetings include: (1) Advice to the Agency on cross-cutting issues relating to measurement and monitoring; (2) topics related to improving laboratory performance; (3) approaches to improving communication between environmental measurement communities; and (4) follow-up, as needed, on ELAB topics.

Written comments on the discussion topics listed above are encouraged and should be sent to Dr. Thomas O'Farrell, Designated Federal Official, U.S. EPA (MC 8105R), 1200 Pennsylvania Ave., Washington, DC 20460, or emailed to ofarrell.thomas@epa.gov. Members of the public are invited to listen to the teleconference calls, and time permitting, will be allowed to comment on issues discussed during the meeting. Those persons interested in participating in ELAB teleconference meetings should contact Thomas O'Farrell on (202) 564-8451 to obtain teleconference information. For information on access or services for individuals with disabilities, please contact Thomas O'Farrell on the number above, preferably at least 10 days prior to the meeting, to give EPA as much time as possible to process your request.

Dated: December 17, 2018.
Jennifer Orme-Zavaleta,
EPA Science Advisor.

[FR Doc. 2018-28118 Filed 12-26-18; 8:45 am]

BILLING CODE 6560-50-P